ENVIRONMENTAL PROTECTION AGENCY

[OPPTS-51979; FRL-6815-6]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new Chemicals. Under sections 5(d)(2) and 5(d)(3) of TSCA, EPA is required to publish a notice of receipt of a premanufacture notice (PMN) or an application for a test marketing exemption (TME), and to publish periodic status reports on the Chemicals under review and the receipt of notices of commencement to manufacture those Chemicals. This status report, which covers the period from September 17, 2001 to October 24, 2001, consists of the PMNs and TMEs, both pending or expired, and the notices of commencement to manufacture a new chemical that the Agency has received under TSCA section 5 during this time period. The “S” and “G” that precede the chemical names denote whether the chemical idenity is specific or generic.

DATES: Comments identified by the docket control number OPPTS-51979 and the specific PMN number, must be received on or before January 7, 2002.

ADDRESSES: Comments may be submitted by mail, electronically, or in person. Please follow the detailed instructions for each method as provided in Unit I. of the SUPPLEMENTARY INFORMATION. To ensure proper receipt by EPA, it is imperative that you identify docket control number OPPTS-51979 and the specific PMN number in the subject line on the first page of your response.

FOR FURTHER INFORMATION CONTACT: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

SUPPLEMENTARY INFORMATION:

I. General Information

A. Does This Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of This Document and Other Related Documents?

1. Electronically. You may obtain copies of this document and certain other available documents from the EPA Internet Home Page at http://www.epa.gov/. On the Home Page select “Laws and Regulations”,” Regulations and Proposed Rules, and then look up the entry for this document under the “Federal Register—Environmental Documents.” You can also go directly to the Federal Register listings at http://www.epa.gov/fedrgstr/.

2. In person. The Agency has established an official record for this action under docket control number OPPTS-51979. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, any test data submitted by the Manufacturer/Importer is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51979 and the specific PMN number in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in EPA East Building Rm. 6428, 1201 Constitution Ave., NW., Washington, DC. The DCO is open from 8 a.m. to 4 p.m., Monday through Friday, excluding legal holidays. The telephone number for the DCO is (202) 564-8930.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51979 and the specific PMN number. Electronic comments may also be filed online at many Federal Depository Libraries.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why Is EPA Taking This Action?

Section 5 of TSCA requires any person who intends to manufacture (defined by statute to include import) a new chemical (i.e., a chemical not on the TSCA Inventory to notify EPA and comply with the statutory provisions pertaining to the manufacture of new Chemicals. Under sections 5(d)(2) and 5(d)(3) of TSCA, EPA is required to publish a notice of receipt of a PMN or an application for a TME and to publish periodic status reports on the Chemicals under review and the receipt of notices of commencement to manufacture those Chemicals. This status report, which covers the period from September 17, 2001 to October 24, 2001, consists of the PMNs and TMEs, both pending or expired, and the notices of commencement to manufacture a new chemical that the Agency has received under TSCA section 5 during this time period.

III. Receipt and Status Report for PMNs and TMEs

This status report identifies the PMNs and TMEs, both pending or expired, and the notices of commencement to manufacture a new chemical that the Agency has received under TSCA section 5 during this time period. If you are interested in information that is not included in the following tables, you may contact EPA as described in Unit II. to access additional non-CBI information that may be available. The “S” and “G” that precede the chemical names denote whether the chemical idenity is specific or generic.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 102 Premanufacture Notices Received From: 09/17/01 to 10/24/01
Case No. | Received Date | Projected Notice End Date | Manufacturer/Importer | Use | Chemical
P-01-0921 | 09/17/01 | 12/16/01 | Arch Chemicals, Inc. | (S) Component in a photoresist formulation to be use in the manufacture of semiconductor and related devices | (G) Derivatized ethoxylated polystyrene resin
P-01-0922 | 09/17/01 | 12/16/01 | Xerox Corporation | (G) Open, non-dispersive use as a constituent in solid, crayon like inks for computer printers | (G) Copper phthalocyanine
P-01-0923 | 09/17/01 | 12/16/01 | CBI | (G) Ingredients for use in consumer products: highly dispersive use | (G) Cycloalkyl acetate
P-01-0924 | 09/17/01 | 12/16/01 | CBI | (G) Ingredients for use in consumer products: highly dispersive use | (G) Carbo cyclic oxime
P-01-0925 | 09/17/01 | 12/16/01 | CBI | (G) Sealant | (G) Substituted methoxysilane
P-01-0926 | 09/17/01 | 12/16/01 | CBI | (G) Sealant | (G) Acrylic polymer
P-01-0927 | 09/18/01 | 12/17/01 | CBI | (G) An open, non-dispersive use | (G) Polycarbonate and polyester-type polyurethane
P-01-0928 | 09/18/01 | 12/17/01 | CBI | (G) Catalyst | (G) Alkoxysilane
P-01-0929 | 09/19/01 | 12/18/01 | BASF Corporation | (S) Protective colloid | (S) 1,3-benzenedicarboxylic acid, 5-sulfo-, monosodium salt, polymer with 1,3-benzenedicarboxylic acid, 1,4-benzenedicarboxylic acid, 1,2-ethanediol, 2,2′-[1,2-ethanediylbis(oxy)]bis[ethanol] and 2,2′-oxybis[ethanol]
P-01-0930 | 09/18/01 | 12/17/01 | International Flavors and Fragrances, Inc. | (S) Raw material for use in fragrances for soaps, detergents, cleaners and other household products | (S) 3-hexene, 1-[(2-methyl-2-propenyl)oxy]-, (3z)-
P-01-0931 | 09/21/01 | 12/20/01 | The Goodyear Tire and Rubber Company | (S) Polymerization catalyst | (G) Neodymium ziegler-natta catalyst
P-01-0932 | 09/24/01 | 12/23/01 | CBI | (S) Coatings; additives | (G) Aliphatic epoxide
P-01-0933 | 09/24/01 | 12/23/01 | CBI | (G) Open, non-dispersive use | (G) Aromatic alkanoate
P-01-0934 | 09/24/01 | 12/23/01 | CBI | (G) This product will be used to manufacture flexible polyurethane foam | (G) Polymeric polyol
P-01-0936 | 09/26/01 | 12/25/01 | Crompton Corporation | (G) Catalyst | (S) Zirconium, dichloro[rel-(7ar,7′ar)-1,2-ethanediylbis[(1,2,3,3a,7a-.eta.)-4,5,6,7-tetrahydro-1h-inden-1-ylidene]]-
P-01-0937 | 09/21/01 | 12/20/01 | The Procter and Gamble Company | (S) Industrial lubricant for metal finishing | (S) Fatty acids, C16-18 and C18-unsatd., esters with sucrose
P-01-0938 | 09/21/01 | 12/20/01 | The Procter and Gamble Company | (S) Industrial lubricant for metal finishing | (S) Fatty acids, C18 and C18-unsatd., esters with sucrose
P-01-0939 | 09/21/01 | 12/20/01 | The Procter and Gamble Company | (S) Industrial lubricant for metal finishing | (G) Methyl esters of long-chain fatty acids and sucrose
P-01-0940 | 09/21/01 | 12/20/01 | The Procter and Gamble Company | (S) Industrial lubricant for metal finishing | (S) alpha-d-glucopyranoside, beta-d-fructofuranosyl, docosanoate
P-01-0941 | 09/21/01 | 12/20/01 | The Procter and Gamble Company | (S) Industrial lubricant for metal finishing | (S) alpha-d-glucopyranoside, beta-d-fructofuranosyl, hexadecanoate
P-01-0942 | 09/21/01 | 12/20/01 | The Procter and Gamble Company | (S) Industrial lubricant for metal finishing | (S) alpha-d-glucopyranoside, beta-d-fructofuranosyl, (9z)-9-octadecenoate
P-01-0943 | 09/26/01 | 12/25/01 | CBI | (G) Coating application | (G) Methylsiloxane polymer
P-01-0944 | 09/26/01 | 12/25/01 | CIBA Specialty Chemicals Corporation | (S) Pigment for use in plastics | (G) Benzenesulfonic acid derivative, salt
P-01-0945 | 09/26/01 | 12/25/01 | CBI | (G) Acrylic polymer for use in a coating application | (G) Copolymer of alkyl acrylates and alkyl methacrylates
P-01-0946 | 09/27/01 | 12/26/01 | CBI | (G) Destructive use as a chemical intermediate | (G) Alkoxylated fatty amine
P-01-0947 | 09/25/01 | 12/24/01 | CBI | (G) Open, non-dispersive (resin) | (G) Meko blocked aromatic polyisocyanate based on tdi
P-01-0948 | 09/28/01 | 12/27/01 | CBI | (G) Conductive agent | (G) Spiro arylamine derivative
P-02-0001 | 10/01/01 | 12/30/01 | CBI | (G) Coating material | (G) Acrylic polymer on the basis of methyl methacrylate and n-butyl methacrylate
P-02-0002 | 10/01/01 | 12/30/01 | CBI | (G) Colorant for printing inks | (G) Polyimide terminated, polyester/ polyamide graft to styrene/ acrylic polymer
P-02-0003 | 10/02/01 | 12/31/01 | CBI | (G) Contained use in sealed electrical components | (G) Tetraalkylammonium salt
P-02-0004 | 10/02/01 | 12/31/01 | CBI | (G) Open, non-dispersive use in a coating application | (G) Aqueous polyurethane dispersion
P-02-0005 | 10/02/01 | 12/31/01 | CBI | (G) Open, non-dispersive use in a coating application | (G) Aqueous polyurethane dispersion
P-02-0006 | 10/02/01 | 12/31/01 | CBI | (G) Contained use in sealed electrical components | (G) Tetraalkylammonium salt
P-02-0007 | 10/02/01 | 12/31/01 | CBI | (G) Destructive use as chemical intermediate | (G) Maleic acid monoester
P-02-0008 | 10/04/01 | 01/02/02 | CBI | (G) Destructive use as chemical intermediate | (G) Maleic acid monoester
P-02-0009 | 10/02/01 | 12/31/01 | Dow Corning Corporation | (S) Lubricant for fibers | (S) Silsesquioxanes, 2(or 3)-methylbutyl, hydroxy-terminated
P-02-0010 | 10/01/01 | 12/30/01 | CBI | (G) Flocculant | (G) N-substituted-2-methyl-2-propenamide, polymer with 2-propenoic acid, sodium salt
P-02-0011 | 10/01/01 | 12/30/01 | CBI | (G) Flocculant | (G) N-substituted-2-methyl-2-propenamide, polymer with 2-methyl-2-propenoic acid and 2-propenoic acid, sodium salt
P-02-0012 | 10/01/01 | 12/30/01 | CBI | (G) Flocculant | (G) N-substituted-2-methyl-2-propenamide, polymer with 2-propenamide and 2-propenoic acid, sodium salt
P-02-0013 | 10/01/01 | 12/30/01 | CBI | (G) Flocculant | (G) N-substituted-2-methyl-2-propenamide, polymer with 2-methyl-2-propenoic acid, 2-propenamide and 2-propenoic acid, sodium salt
P-02-0014 | 10/04/01 | 01/02/02 | CBI | (G) Pigment dispersant | (G) Maleated fatty acid
P-02-0015 | 10/04/01 | 01/02/02 | CBI | (G) Additive for paint | (G) Aliphatic benzoate ester
P-02-0016 | 10/04/01 | 01/02/02 | 3M Company | (G) Protective coating | (G) Fluorochemical urethane
P-02-0017 | 10/05/01 | 01/03/02 | CBI | (G) Colour transfer printing | (G) Azo oil soluble dye
P-02-0018 | 10/05/01 | 01/03/02 | The Dow chemical Company | (G) Paint additive | (G) Polyalkoxylated alkyl carbamate
P-02-0019 | 10/05/01 | 01/03/02 | The Dow chemical Company | (G) Paint additive | (G) Polyalkoxylated alkyl carbamate
P-02-0020 | 10/05/01 | 01/03/02 | CBI | (G) Ester wax | (G) Ester wax
P-02-0021 | 10/09/01 | 01/07/02 | CBI | (G) Dispersive use: oilfield performance chemical. | (G) Modified polyamide
P-02-0022 | 10/09/01 | 01/07/02 | CBI | (G) Dispersive use: oilfield performance chemical. | (G) Modified fatty amide
P-02-0023 | 10/09/01 | 01/07/02 | CBI | (G) Dispersive use: oilfield performance chemical. | (G) Modified polyamide
P-02-0024 | 10/09/01 | 01/07/02 | CBI | (G) Dispersive use: oilfield performance chemical. | (G) Modified fatty amide
P-02-0025 | 10/09/01 | 01/07/02 | Chemetall chemical products, Inc. | (G) Aluminum welding, destructive use | (S) Aluminum cesium fluoride
P-02-0026 | 10/05/01 | 01/03/02 | CBI | (S) Specialty grease thickener | (G) Mixed aliphatic substituted bis-p-phenylene diurea
P-02-0027 | 10/09/01 | 01/07/02 | Solutia Inc. | (S) Defoamer for water based industrial coatings | (G) Modified fatty acid ester
P-02-0028 | 10/09/01 | 01/07/02 | CBI | (S) Inherently conducting polymer in corrosion control coatings | (S) Lignosulfonic acid, ethoxylated, compounds with polyaniline, hydrochlorides
P-02-0029 | 10/09/01 | 01/07/02 | CBI | (S) Inherently conducting polymer in corrosion control coatings | (S) Lignosulfonic acid, ethoxylated, compounds with polyaniline, p-toluenesulfonates
P-02-0030 | 10/09/01 | 01/07/02 | BASF Corporation | (S) Processing aid for leather tanning | (G) Counter ion of vegetable oil, oxidized and sulfited
P-02-0031 | 10/05/01 | 01/03/02 | Quest International Fragrances Co. | (S) Fragrance ingredient | (S) Cyclohexan-1-ol, 1-methyl-3-(2-methylpropyl)-
P-02-0032 | 10/10/01 | 01/08/02 | CIBA Specialty Chemicals Corporation | (S) Photoacid generator for resists in semiconductor and display mfg. | (G) Aromatic thiophene derivative
P-02-0033 | 10/10/01 | 01/08/02 | CBI | (G) Dispersant for inorganic materials | (G) Sodium salt of methacrylic acid, methylacrylate copolymer
P-02-0034 | 10/11/01 | 01/09/02 | CBI | (S) Phenolic resin used as a raw material for photoresist | (G) Phenolic resin
P-02-0035 | 10/12/01 | 01/10/02 | Burlington Chemical Company, Inc. | (S) Fabric softener | (S) Ethanaminium, n-ethyl-2-hydroxy-n,n-bis(2-hydroxyethyl)-, mono- and diesters with branched and linear C16-18 and C18-unsatd, fatty acids, et sulfates (salts)
P-02-0036 | 10/12/01 | 01/10/02 | Burlington Chemical Company, Inc. | (S) Component of automotive spray wax | (S) Imidazolium compounds, 2-(C15-17 and C17-unsatd. branched and linear alkyl)-1-ethyl-4,5-dihydro-3-(hydroxyethyl), et sulfates (salts)
P-02-0037 | 10/12/01 | 01/10/02 | Burlington Chemical Company, Inc. | (S) fabric softener; component of automotive spray wax | (S) Imidazolium compounds, 2-(C15-17 and C17-unsatd. branched and linear alkyl)-1-[2-(C16-18, and C18-unsatd. branched and linear amido)ethyl]-3-ethyl-4,5-dihydro, et sulfates
P-02-0038 | 10/11/01 | 01/09/02 | CBI | (G) Polymer for waterborne paints | (G) Modified acrylic emulsion
P-02-0039 | 10/11/01 | 01/09/02 | CBI | (G) Polymer for waterborne paints | (G) Modified acrylic emulsion
P-02-0040 | 10/12/01 | 01/10/02 | CBI | (G) Open non-dispersive (thermoplastic material) | (G) Modified polycarbonate
P-02-0041 | 10/12/01 | 01/10/02 | Solutia Inc. | (S) Binding agent for waterborne coatings | (G) Modified acrylic copolymer
P-02-0042 | 10/12/01 | 01/10/02 | CBI | (G) Acrylate resin for the coating, adhesive and sealant industry | (G) Hexanedioc acid, polymer with 1,1′-methylenebis[4-isocyanatocyclohexane] and a difunctional alcohol, 2-hydroxyethyl acrylate-blocked
P-02-0043 | 10/12/01 | 01/10/02 | BASF Corporation | (S) Processing aid for leather tanning | (G) Metal salt of an aliphatic acid
P-02-0044 | 10/12/01 | 01/10/02 | CIBA Specialty Chemicals Corporation | (S) Photoreactive dye for recordable compact discs(cd-r) | (G) Copper phthalocyanine derivative
P-02-0045 | 10/12/01 | 01/10/02 | CBI | (G) Antistatic agent; surfactant rinse aid; flotation reagent; surfactant rinse aid | (G) Esterquat
P-02-0046 | 10/12/01 | 01/10/02 | CBI | (G) Antistatic agent; surfactant rinse aid; flotation reagent; surfactant rinse aid | (G) Esterquat
P-02-0047 | 10/12/01 | 01/10/02 | CBI | (G) Antistatic agent surfactant rinse aid; flotation reagent; surfactant rinse aid | (G) Esterquat
P-02-0048 | 10/12/01 | 01/10/02 | CBI | (G) Antistatic agent surfactant rinse aid; flotation reagent; surfactant rinse aid | (G) Esterquat
P-02-0049 | 10/15/01 | 01/13/02 | CBI | (G) Gellant | (G) Fatty acids, C18-unsatd., dimers, hydrogenated, polymers with fatty amines, ethylenediamine and 2-methyl-1,5-pentanediamine
P-02-0050 | 10/15/01 | 01/13/02 | CBI | (G) Gellant | (G) Fatty acids, C18-unsatd., dimers, polymers with fatty amines, ethylenediamine and 2-methyl-1,5-pentanediamine
P-02-0051 | 10/15/01 | 01/13/02 | CBI | (G) Gellant | (G) Fatty acids, C18-unsatd., dimers, hydrogenated, polymers with ethylenediamine, neopentyl glycol and fatty alcohol
P-02-0052 | 10/15/01 | 01/13/02 | CBI | (G) Gellant | (G) Fatty acids, C18-unsatd., dimers, polymers with ethylenediamine, neopentyl glycol and fatty alcohol
P-02-0053 | 10/15/01 | 01/13/02 | Solutia Inc. | (S) Wetting agent for waterborne coatings | (G) Neutralized acrylic copolymer
P-02-0054 | 10/15/01 | 01/13/02 | CBI | (G) Open, non-dispersive (resin) | (G) Aliphatic thermoplastic polyurethane
P-02-0055 | 10/15/01 | 01/13/02 | CBI | (S) Aqueous dispersion of polyurethane for leather finishing | (G) Dioic acid, polymer with (substituted)diol, hydrazine, hydroxypoly[(substituted)diyl], (substituted)propanoic acid and [(substituted)cyclohexane], compound with (substituted)amine
P-02-0056 | 10/16/01 | 01/14/02 | Solutia Inc. | (S) Dispersing agent for industrial coatings | (G) Modified phosphoric acid group ester
P-02-0057 | 10/16/01 | 01/14/02 | Solutia Inc. | (S) Binder for industrial paints | (G) Polycarboxylic resin
P-02-0060 | 10/17/01 | 01/15/02 | Dow corning Corporation | (S) Adhesion promoter | (S) Poly[oxy(methyl-1,2-ethanediyl)], alpha-hydro-w-(2-propenyloxy)-, ether with bis[ethyl 3-(oxo-k0)butanoato-k0′]bis(1,2-propanediolato-k0)titanium (2:1)
P-02-0061 | 10/17/01 | 01/15/02 | Jeneil Biosurfactant Company | (G) Agriculture chemical additive, additive for soil remediation, additive for waste water treatment, additive for petroleum tank cleaning and hydrocarbon slugde remediation, additive for cleaning formulations. | (S) Decanoic acid, 3-[[6-deoxy-2-o-(6-deoxy-.alpha.-l-mannopyranosyl)-.alpha.-l-mannaopyranosyl]oxy]-, 1-(carboxymethyl)octyl ester, mixture with 1-(carboxymethyl)octyl 3-[(6-deoxy-.alpha.-l-mannopyranousyl)oxy]decanoate
P-02-0062 | 10/18/01 | 01/16/02 | CBI | (G) Reactive hot melt adhesive | (G) Reactive hot melt
P-02-0063 | 10/19/01 | 01/17/02 | Quest International Fragrances Co. | (S) Fragrance ingredient | (S) Cyclohexanecarboxylic acid, 1,4-dimethyl-, methyl ester (cis and trans); cyclohexanecarboxylic acid, 1,3-dimethyl-, methyl ester (cis and trans)
P-02-0064 | 10/18/01 | 01/16/02 | CBI | (G) Open, non-dispersive (resin) | (G) Copolymer from acrylic acid and diethylene glycol divinylether with carboxylic acid groups in h-form
P-02-0065 | 10/19/01 | 01/17/02 | CBI | (G) Open, non-dispersive (catalyst) | (G) Polyether - polycarbonat-carbamate
P-02-0066 | 10/19/01 | 01/17/02 | Nippon Kayaku America, Inc. | (S) Photosensitive oligomer for solder mask | (S) Formaldehyde, polymer with (chloromethyl)oxirane and phenol, hydrogen 4-cyclohexene-1,2-dicarboxylate 2-propenoate
P-02-0067 | 10/19/01 | 01/17/02 | Nippon Kayaku America, Inc. | (S) Photosensitive oligomer for solder mask | (S) Formaldehyde, polymer with (chloromethyl)oxirane and 2-methylphenol, hydrogen 4-cyclohexene-1,2-dicarboxylate 2-propenoate
P-02-0068 | 10/19/01 | 01/17/02 | Dow Corning Corporation | (S) Silicone matting agent | (G) Organo silicone elastomer
P-02-0069 | 10/24/01 | 01/22/02 | Sasol North America Inc. | (G) Solubilizer | (S) Glycerides, mixed decanoyl and octanoyl mono-, di- and tri-,ethoxylated
P-02-0070 | 10/24/01 | 01/22/02 | CBI | (G) Alkaline battery component - contained use enclosed in battery container | (S) 2-propenoic acid, polymer with sodium 4-ethenylbenzenesulfonate
P-02-0071 | 10/24/01 | 01/22/02 | CBI | (G) Resin for coating | (G) Acrylic copolymer
P-02-0079 | 10/22/01 | 01/20/02 | CBI | (S) Tackifying resin for adhesive formulations | (G) Polymer of phenol and substituted benzenes
P-02-0080 | 10/24/01 | 01/22/02 | BASF Corporation | (S) Processing aid for leather tanning | (G) Diglyceride fatty acid, acetylated
P-02-0082 | 10/22/01 | 01/20/02 | CBI | (G) Polymeric binder | (G) Strene-methacrylate copolymer
P-02-0083 | 10/22/01 | 01/20/02 | CBI | (G) Polymeric binder | (G) Strene-methacrylate copolymer
P-02-0084 | 10/22/01 | 01/20/02 | CBI | (G) Polymeric binder | (G) Strene-methacrylate copolymer
P-02-0085 | 10/22/01 | 01/20/02 | CBI | (G) Polymeric binder | (G) Strene-methacrylate copolymer

In table II, EPA provides the following information (to the extent that such information is not claimed as CBI) on the TMEs received

II. 3 Test Marketing Exemption Notices Received From: 09/17/01 to 10/24/01
Case No. | Received Date | Projected Notice End Date | Manufacturer/Importer | Use | Chemical
T-02-0001 | 10/12/01 | 11/26/01 | Westvaco Corporation - chemical division | (S) Binding agent in paper coatings | (G) Butyl acrylate, polymer with styrene and ,ethylamino chloride compounds, acetic acid salt
T-02-0002 | 10/12/01 | 11/26/01 | Westvaco Corporation - chemical division | (S) Binding agent in paper coatings | (G) Butyl acrylate, polymer with styrene and ,ethylamino chloride compounds, lactic acid salt
T-02-0003 | 10/12/01 | 11/26/01 | Westvaco Corporation - chemical division | (S) Binding agent in paper coatings | (G) Butyl acrylate, polymer with styrene and ,ethylamino chloride compounds, nitric acid salt

In table III, EPA provides the following information (to the extent that such information is not claimed as CBI) on the Notices of Commencement to manufacture received:

III. 71 Notices of Commencement From: 09/17/01 to 10/24/01
Case No. | Received Date | Commencement/Import Date | Chemical
P-00-0065 | 10/15/01 | 09/17/01 | (G) Amines, n-tallow alkylpoly-, hydrochlorides
P-00-0066 | 09/17/01 | 08/29/01 | (G) Amines, n-tallow alkylpoly-
P-00-0099 | 10/11/01 | 09/12/01 | (G) Fatty acid condensate
P-00-0115 | 10/05/01 | 10/01/01 | (S) 8-undecenal, (8z)-
P-00-0118 | 09/24/01 | 09/18/01 | (G) Unsaturated dialkyl acetal
P-00-0482 | 09/20/01 | 08/24/01 | (G) Alkyl methacrylate copolymer
P-00-0736 | 09/27/01 | 09/04/01 | (G) Polyester acrylate
P-00-0802 | 10/16/01 | 09/14/01 | (S) Rosin, polymd., compound with 2-(dimethylamino) ethanol
P-00-1228 | 09/24/01 | 09/10/01 | (G) Substituted benzophenone
P-01-0013 | 09/17/01 | 09/17/01 | (S) Oxacycloheptadec-11-en-2-one
P-01-0074 | 10/03/01 | 09/15/01 | (G) Modified styrene acrylate polymer
P-01-0121 | 10/02/01 | 08/29/01 | (G) Aromatic saturated copolymer
P-01-0122 | 09/26/01 | 09/14/01 | (G) Acetate-substituted bicyclic olefin
P-01-0130 | 10/24/01 | 10/08/01 | (S) Sulfur, trifluoro[2-methoxy-n-(2-methoxyethyl)ethanaminato-kn]-, (t-4)-
P-01-0161 | 09/17/01 | 08/24/01 | (G) Aliphatic capped polyester
P-01-0232 | 09/27/01 | 09/18/01 | (G) Perfluoroalkyl derivative
P-01-0282 | 09/26/01 | 09/12/01 | (G) Urethane acrylate
P-01-0313 | 10/01/01 | 09/13/01 | (G) Alkanoic acid diester
P-01-0315 | 10/09/01 | 09/09/01 | (G) Urethane acrylate dispersion
P-01-0391 | 10/09/01 | 09/27/01 | (G) Modified phenolic resin
P-01-0399 | 09/26/01 | 09/24/01 | (G) Polyacrylate, salt with polyalkylene glycolbutylether, phosphate
P-01-0411 | 10/09/01 | 09/23/01 | (G) Acrylic copolymer
P-01-0412 | 09/21/01 | 09/19/01 | (G) Acrylic copolymer
P-01-0414 | 09/21/01 | 09/17/01 | (G) Acrylic copolymer
P-01-0416 | 09/21/01 | 09/18/01 | (G) Acrylic copolymer
P-01-0441 | 10/09/01 | 09/17/01 | (G) Modified phenolic resin
P-01-0444 | 09/21/01 | 08/23/01 | (G) Hydroxy functional polyester resin
P-01-0445 | 10/15/01 | 09/26/01 | (G) Aminomodified silicone-polyether copolymer
P-01-0451 | 09/25/01 | 08/21/01 | (G) Fatty acid modified polyester
P-01-0476 | 10/09/01 | 09/17/01 | (G) O-macroalkyl hydroxylamine
P-01-0482 | 10/09/01 | 09/09/01 | (G) Modified polyurethane resin
P-01-0496 | 09/17/01 | 09/05/01 | (G) Acrylate ester
P-01-0503 | 10/12/01 | 10/10/01 | (G) Bis substituted amino benzenesulfonic acid, amine salt
P-01-0530 | 09/19/01 | 08/24/01 | (G) Alkoxylated alcohol
P-01-0553 | 10/02/01 | 08/29/01 | (G) Aromatic/aliphatic copolyester
P-01-0554 | 10/02/01 | 08/29/01 | (G) Copolyester
P-01-0561 | 09/21/01 | 09/06/01 | (G) Modified phenolic resin
P-01-0562 | 09/17/01 | 08/29/01 | (G) Water redispersible cationic acrylic copolymer
P-01-0566 | 09/18/01 | 08/13/01 | (G) Modified polyurethane resin
P-01-0572 | 10/01/01 | 09/08/01 | (S) Fatty acids, C18-unsatd., dimers, di-me esters, hydrogenated, polymers with 1,1′-methylenebis[4-isocyanatobenzene], polypropylene glycol and trimethylolpropane
P-01-0576 | 10/16/01 | 10/03/01 | (G) Aromatic benzaldehyde polymer
P-01-0587 | 10/01/01 | 08/29/01 | (S) Glycerides, tall-oil mono-, di-, and tri-
P-01-0588 | 10/15/01 | 10/03/01 | (G) Rosin, maleated, metal oxide salts.
P-01-0597 | 09/24/01 | 09/10/01 | (G) Acrylate and urethane modified polyester resin
P-01-0604 | 10/15/01 | 10/05/01 | (G) Diketo pyrrolo pyrrol isomers
P-01-0615 | 09/25/01 | 09/12/01 | (G) Acrylic polymer
P-01-0617 | 10/09/01 | 09/28/01 | (S) Hexadecene, polymer with pentadecene, hydrogenated*
P-01-0618 | 10/09/01 | 09/28/01 | (S) Tetradecene, homopolymer, hydrogenated*
P-01-0635 | 09/17/01 | 09/07/01 | (G) Polyurethane resin
P-01-0638 | 10/16/01 | 10/04/01 | (G) (monosubstituted naphthalene azo)tri substituted naphthalene sulfonic acid, salt
P-01-0645 | 10/03/01 | 09/15/01 | (G) Isoprene based polymer
P-01-0647 | 09/27/01 | 09/25/01 | (G) Substituted arylcarboxamide
P-01-0651 | 10/09/01 | 09/23/01 | (G) Polyester acrylate
P-01-0652 | 10/10/01 | 09/22/01 | (G) Plant extract
P-01-0660 | 09/26/01 | 09/20/01 | (G) Alkylated aromatic
P-01-0665 | 10/17/01 | 10/01/01 | (G) Benzenesulfonic acid, 2,2′-(1,2-ethenediyl)bis[5-[[4-substituted-6-substituted-1,3,5-triazin-2-yl]amino-, sodium salt, compound with (substituted)oxirane polymer with sorbitol, (substituted)amine and (substituted)triol formate (salt)
P-01-0671 | 10/10/01 | 09/28/01 | (G) Polyalkoxylated aromatic chromophore
P-01-0673 | 10/15/01 | 10/05/01 | (G) Polyalkoxylated intermediate
P-01-0675 | 10/10/01 | 09/20/01 | (G) Polyalkoxylated aromatic chromophore
P-01-0679 | 10/04/01 | 09/21/01 | (G) Polyalkoxylated intermediate
P-01-0681 | 10/12/01 | 09/24/01 | (G) Polyalkoxylated intermediate
P-01-0699 | 10/15/01 | 10/01/01 | (G) Alkene adduct, calcium phenate, sulfurized
P-94-0943 | 09/28/01 | 09/21/01 | (G) Alkyl - aminophenol
P-97-0492 | 10/09/01 | 09/26/01 | (G) Acrylic polymer
P-97-0579 | 09/21/01 | 09/06/01 | (S) Benzene, 1,2-bis(phenoxymethyl)
P-97-0736 | 10/02/01 | 09/25/01 | (G) Fatty acids, C18-unsatd., dimers, polymers with ethylenediamine and a fatty alcohol.
P-98-0494 | 10/09/01 | 09/28/01 | (G) Polyurethane polymer
P-98-1257 | 09/19/01 | 09/13/01 | (G) Blocked aromatic isocyanate
P-99-0214 | 09/18/01 | 09/07/01 | (G) Hydrofluorocarbon (hfc)
P-99-0444 | 09/18/01 | 07/27/01 | (G) Urethane modified alcohol
P-99-0957 | 10/02/01 | 09/17/01 | (G) Chromophore substituted polyoxyalkylene

List of Subjects

Environmental protection, Chemicals, Premanufacturer notices.

Dated: November 28, 2001.
Deborah A. Williams,
Acting Director, Information Management Division, Office of Pollution Prevention and Toxics.

[FR Doc. 01-30370 Filed 12-6-01; 8:45 m]

BILLING CODE 6560-50-S